DEPARTMENT OF HOMELAND SECURITY

Coast Guard

33 CFR Part 117

[Docket No. USCG-2017-0071]

Change Schedule Deviation Dates on Atchafalaya River, Morgan City, LA

AGENCY: Coast Guard, DHS.

ACTION: Notice of temporary deviation from drawbridge regulation; correction.

SUMMARY: The Coast Guard is correcting a regulation that appeared in the Federal Register of February 17, 2017. The document issued a temporary deviation from the operating schedule that governs the Morgan City Railroad Bridge across the Atchafalaya River (also known as Berwick Bay), mile 17.5 [Gulf Intracoastal Waterway (Morgan City-Port Allen Alternate Route), mile 0.3] in Morgan City, St. Mary Parish, Louisiana. The document had the incorrect dates in the SUMMARY, DATES, and SUPPLEMENTARY INFORMATION sections.

DATES: This corrected deviation is effective from 6 a.m. Thursday, April 20, 2017, through 9 p.m. on Friday, April 28, 2017.

FOR FURTHER INFORMATION CONTACT: If you have questions on this notice contact Donna Gagliano, Bridge Administration Branch, Coast Guard, telephone (504) 671-2128, email Donna.Gagliano@uscg.mil.

Correction

1. In the Federal Register of February 17, 2017 (82 FR 10960), in FR Doc. 2017-03186, on page 10960, in the second column, third and fourth paragraphs, correct the “Summary” and “Dates” sections by correcting the effective deviation dates to 6 a.m. Thursday, April 20, 2017, through 9 p.m. on Friday, April 28, 2017.

2. On the same page, in the third column, in the third paragraph, correct the Supplementary Information section to read:

“For the purposes of this deviation, the bridge will be allowed to remain in the closed-to-navigation position from 6 a.m. to 1 p.m. each day. From 1 p.m. until 2:30 p.m. the bridge will be opened for the passage of vessels. The bridge will again be closed-to-navigation from 2:30 p.m. to 9 p.m. This schedule will occur for two (2) separate two-day periods, on April 20 through 21, and on April 27 through April 28, 2017. At all other times the bridge will operate in accordance with 33 CFR 117.5.”

Dated: March 22, 2017.
Katia Kroutil,
Chief, Office of Regulations & Administrative Law, U.S. Coast Guard.

[FR Doc. 2017-05977 Filed 3-24-17; 8:45 am]

BILLING CODE 9110-04-P